DEPARTMENT OF AGRICULTURE

Forest Service

Shasta-Trinity National Forest, California: Red Fir Restoration Project

AGENCY: Forest Service, USDA.

ACTION: Notice of intent to prepare an environmental impact statement.

SUMMARY: The Shasta-Trinity National Forest proposes to treat diseased stands of Shasta red fir (Abies magnifica var. shastensis) and mixed conifer to reduce disease occurrence and fuels accumulations on approximately 1,400 acres. Vegetative treatments include regeneration with legacy tree retention, thin from above, sanitation/improvement cutting, plantation/pre-commercial thinning, and a roadside fuels buffer. Removed trees would primarily be those infected with disease (dwarf mistletoe and Cytospora canker) as well as those contributing to overcrowded stand conditions. Young seedlings would be planted in openings created by removal of the diseased overstory. Fuels would be reduced to less hazardous levels in all treated stands. The proposed project area includes 29 miles of National Forest System Roads, which would be maintained and/or reconstructed in order to meet National Forest System Road standards. The project area is in Township 1, 2 and 3 North, and Range 5 and 6 East, Humboldt Meridian, located in Trinity and Humboldt Counties, approximately six miles west of Hyampom, California.

DATES: Comments concerning the scope of the analysis must be received within 45 days of this publication in the Federal Register. The draft environmental impact statement is expected March 2015 and the final environmental impact statement is expected June 2015.

ADDRESSES: Send written comments to Red Fir Restoration Project, Attn: Keli McElroy, Shasta-Trinity National Forest, 3644 Avtech Parkway, Redding, CA 96002. Comments may also be sent via email to comments-pacificsouthwest-shasta-trinity-yollabolla-hayfork@fs.fed.us.

FOR FURTHER INFORMATION CONTACT: Keli McElroy by phone (530) 226-2354, or by email kmcelroy@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Land management has been proposed in order to sustain the presence of red fir consistent with historic conditions while improving forest health and fire resiliency on the South Fork Mountain ridge top. Specifically, there are 3 parts to the purpose and need:

• Forest Health: Preserve the diversity of tree species on South Fork Mountain ridge top by maintaining red fir populations and improving the overall health of residual stands.

• Fuels Reduction: Reduce fuel loading along the ridge top in order to protect habitat and watershed resources, reduce threat of wildfire in the wildland urban interface (WUI), as well as reduce the risk of loss of heritage sites.

• Socioeconomics: Support local communities and contribute raw materials toward the existing forest products infrastructure.

The existing condition of the proposed project area consists of Shasta red fir infected with dwarf mistletoe and Cytospora canker. In some areas 100 percent of existing red fir are exhibiting signs of severe infection. The overstory is inoculating understory with disease, and growth is stunted due to parasitic and fungal infections, resulting in accelerated mortality. In addition, some natural stands and plantations in the proposed project area are overstocked, causing the trees to compete for resources, be more susceptible to disease and mortality, and further contribute to fuel loading.

The accelerated mortality and past management practices have contributed to heavy fuel loading in some parts of the project area, resulting in moderate to high fire hazard. The project area is within a National Register of Historic Places eligible Historic District, and high intensity fire could damage these sites. In addition, the project area has high recreational value for hunters, hikers and motorized users due to the ridgetop views and unique forest character. The Trinity County Community Wildfire Protection Plan (2010) also identifies much of the project area as a Wildland Urban Interface due to its proximity to private land and value as a point of ingress/egress, with fuels reduction along South Fork Mountain Road as a priority.

With over seventy percent of the county's land base in public ownership and low quantities of timber sold over the last decade, the local forest products industry that contributes to the overall health of the Trinity County economic infrastructure is underutilized. Sale and removal of timber products within the project area would meet forest health and fuels objectives, and would contribute to the local forest products infrastructure.

The desired conditions for the proposed project area consist of ridgetop stands with structural and species diversity that create a resilience to disturbance. This may be accomplished through reduced sources of dwarf mistletoe infection, reduced concentrations of surface fuels, maintenance of the condition of historic sites and active use of existing local forest products infrastructure. In some areas, reducing the sources of infections (i.e. heavily diseased overstory) would allow the current young trees to respond to release and outgrow the disease. Areas that are heavily diseased and currently do not have a cohort of young trees capable of outgrowing the infection, would be planted to native conifer species. Natural regeneration of red fir would also occur in the openings created by removing diseased trees. Structural diversity would be maintained through the retention of older trees that constitute biological legacies (not including diseased red fir), especially where they exist in clumps exhibiting old growth characteristics. In addition, thinning the currently overcrowded and diseased mixed conifer stands would allow more resources to be available to individual trees thereby improving overall forest stand health and resilience.

Concentrations of surface fuels would be at a level where stands are more resilient to wildfire and where the intensity of fire in those stands would cause less damage to habitat, watershed and heritage resources. Merchantable timber and biomass/forest products removed to achieve forest health and fuels objectives would provide support to local economies and provide local employment opportunities.

The South Fork Mountain ridge top includes some of the most substantial concentrations of disease and resultant mortality on the west side of the Shasta-Trinity National Forest. Due to continued deterioration of red fir trees and the integrity of the forest stands on South Fork Mountain, implementation should occur as soon as possible to prevent further damage to the young cohort of trees, reestablish healthy stands, and reduce fuel loads before a fire event occurs.

Proposed Action

In response to this purpose and need, the Shasta-Trinity National Forest is proposing a combination of regeneration harvests and thinning from above (removal of infected overstory) in many of the predominantly red fir stands. Also sanitation with improvement cutting is proposed in the red fir/mixed conifer stands to reduce the sources of infection as well as stand densities, and promote healthier stand dynamics. Treatments are proposed on approximately 1,400 acres to address disease and mortality issues in forested stands on South Fork Mountain. Prescriptions vary by stand according to site specific conditions including: (1) The extent of disease present, (2) species composition, and (3) structural stage of residual stand. Vegetative treatments include:

• Regeneration with legacy tree retention (approximately 205 acres): On the most infected red fir stands: Retain healthy red fir and non-red fir tree species within the stand, harvest/treat the remaining trees in the stand and reforest the site with an uninfected native understory.

• Thin from above (approximately 75 acres) remove mistletoe-infected red fir trees from the overstory in stands that have an uninfected, vigorous population of advanced red fir regeneration; followed up with pre-commercial thinning of established natural regeneration, where appropriate.

• Sanitation/Improvement thinning (approximately 860 acres): Thin dense conifer stands to improve overall stand health, retaining the largest, healthiest trees; may be accomplished through small group selections in predominantly red fir stands or individual tree selections in mixed conifer stands.

• Plantation pre-commercial thinning (approximately 180 acres) of young plantations: Reduce conifer densities from 400-1,800 trees/acre to 200-300 trees/acre in order to decrease inter-tree competition, thereby promoting increased growth rates, crown development and height differentiation.

• Roadside fuels buffer (approximately 80 acres): Non-commercial fuels reduction consisting of treatment of small trees and shrubs as well as down woody debris along the South Fork Mountain ridgetop road.

Fuels would be reduced to less hazardous levels in all treated stands. Fuels treatments vary according to site conditions and may be accomplished using prescribed burning, biomass and/or forest products removal, mechanical treatments such as mastication or machine piling of existing and activity fuels, as well as hand or machine piling and burning of activity fuels only.

Reforestation would be implemented in stands where a regeneration with legacy tree retention treatment would create the desired condition, as well as portions of stands where thinning from above and/or sanitation would create the desired condition (in the absence of sufficient natural regeneration). Regeneration consists of planting trees indigenous to the area (red fir, Douglas-fir, sugar pine, incense cedar, ponderosa pine and white fir), including planting non-red fir species within 50 feet of residual stands containing red fir or in pockets to break up the continuity of red fir. By buffering residual red fir stands with non-host species, the spread of dwarf mistletoe infection will be greatly reduced. Reforestation will be completed within five years of final harvest.

Due to the presence of Annosus root rot (a fungus that often initially infects freshly cut stumps, and can spread to neighboring live trees through root contact), a licensed borate compound (Sporax® or equivalent) may be utilized to treat all conifer (especially true fir) stumps to minimize the potential for increased infection due to management activities.

The Red Fir Restoration project area includes 29 miles of National Forest System Roads. Maintenance and/or reconstruction of road segments used for haul routes may be accomplished in order to meet National Forest System Road standards, water quality standards and/or allow for forest product removal. Road actions may include culvert upgrades, widening, outsloping, grading, vegetation brushing, rocking, paving and drainage work. Where feasible and appropriate, existing unauthorized routes would be utilized as temporary roads. These routes would be subsequently decompacted, decommissioned and revegetated upon completion of implementation.

The project is planned to begin implementation in 2016.

Responsible Official

David R. Myers, Forest Supervisor, Shasta-Trinity National Forest.

Nature of Decision To Be Made

The Forest Supervisor will decide whether to implement the proposed action, take an alternative action that meets the purpose and need or take no action. The decision may include project-specific, non-significant forest plan amendments pertaining to treatment units where regeneration harvests are prescribed that permit (a) size of openings within Management Prescription III, Roaded Recreation, to average more than 5 acres but not exceed 40 acres, and (b) retention of less than 15% of the largest oldest trees where the existing uninfected overstory, including alternate host trees, does not achieve 15%. If it is determined that deviation from the 15% green tree retention minimum standard and guideline established by the Northwest Forest Plan Record of Decision is necessary to meet the purpose and need, the Forest would seek the approval of the Regional Interagency Executive Committee. In addition, land allocation boundaries may be adjusted from Administratively Withdrawn to Matrix in the northeastern corner (45.6 acres) of Township 2 North, Range 6 East, Section 28 to account for a mapping inaccuracy in the Trinity National Forest Forest Plan Allocations map.

Scoping Process

This notice of intent initiates the scoping process, which guides the development of the environmental impact statement. In an effort to provide for collaborative design of this project or alternatives, open public meetings will be held on Saturday, August 9, 2014 between 10:00 a.m. and 12:00 p.m. and on Thursday, September 4, 2014 between 1:00 p.m. and 3:00 p.m. at the Hayfork Ranger Station, with a field visit on Tuesday, August 19. Any additional meetings will be announced to the public through the Record Searchlight and Trinity Journal newspapers along with the project Web site. Additional information is available on the Shasta-Trinity National Forest NEPA Projects Web site at: http://www.fs.fed.us/nepa/nepa_project_exp.php?project=32935.

It is important that reviewers provide their comments at such times and in such a way that they are useful to the Agency's preparation of the environmental impact statement. Therefore, comments should be provided prior to the close of the comment period and should clearly articulate the reviewer's concerns about alternative means of allocating resources to meet the purpose and need.

Comments received in response to this solicitation, including names and addresses of those who comment, will be part of the public record for this proposed action. Comments submitted anonymously will be accepted and considered, however anonymous comments will not provide the respondent with standing to participate in subsequent administrative review or judicial review.

Dated: July 31, 2014.
David R. Myers,
Forest Supervisor, Shasta-Trinity National Forest.

[FR Doc. 2014-18669 Filed 8-6-14; 8:45 am]

BILLING CODE 3410-11-P